DEPARTMENT OF THE INTERIOR

Bureau of Safety and Environmental Enforcement

30 CFR Part 250

[Docket ID: BSEE-2016-0003; 17XE1700DX EEEE500000 EX1SF0000.DAQ000]

RIN 1014-AA31

Oil, Gas, and Sulfur Activities on the Outer Continental Shelf—Adjustments to Cost Recovery Fees

AGENCY: Bureau of Safety and Environmental Enforcement, Interior.

ACTION: Extension of comment period for notice of proposed rulemaking.

SUMMARY: The Bureau of Safety and Environmental Enforcement (BSEE) is extending the public comment period on the proposed rule regarding adjustments to cost recovery fees, which was published in the Federal Register on November 17, 2016 (81 FR 81033). The original public comment period would have ended on January 17, 2017. However, BSEE has received multiple requests from various stakeholders to extend the comment period. BSEE has reviewed the extension requests and determined that a 30-day comment period extension—to February 16, 2017—is appropriate.

DATES: Written comments must be received by the extended due date of February 16, 2017. BSEE may not fully consider comments received after this date.

ADDRESSES: You may submit comments on the rulemaking by any of the following methods. Please use the Regulation Identifier Number (RIN) 1014-AA31 as an identifier in your comments. See also Public Availability of Comments under Procedural Matters.

• Federal eRulemaking Portal: http://www.regulations.gov. In the entry titled Enter Keyword or ID, enter BSEE-2016-0003 then click search. Follow the instructions to submit public comments and view supporting and related materials available for this rulemaking. BSEE may post all submitted comments.

• Mail or hand-carry comments to the Department of the Interior (DOI); Bureau of Safety and Environmental Enforcement; Attention: Regulations and Standards Branch; Mail Code VAE ORP; 45600 Woodland Road, Sterling, VA 20166. Please reference Proposed Adjustment of Service Fees Relating to the Regulation of Oil, Gas, and Sulfur Activities on the Outer Continental Shelf, AA31, in your comments and include your name and return address.

• Comments on the information collection contained in this proposed rule are separate from those on the substance of the proposed rule. Send comments on the information collection burden in this rule to: OMB, Interior Desk Officer, 202-395-5806 (fax); email OIRA_submissions@omb.eop.gov. Please also send a copy to BSEE at regs@bsee.gov, fax number (703) 787-1546, or by the address listed above.

• Public Availability of Comments—Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Kimberly Monaco, Budget Analyst, Office of Budget at (703) 787-1658, Kimberly.Monaco@bsee.gov.

SUPPLEMENTARY INFORMATION: BSEE published a proposed rulemaking to adjust its cost recovery fees on November 17, 2016 (81 FR 81033). The proposed rule would adjust 31 existing cost recovery fees and pre-production site visits for services BSEE provides when it receives a plan, application, permit, or other request from non-Federal recipients, including the acceptable payment type for each service. The proposed rule also proposed new fees for certain pre-production site visits to support the review and approval of production safety system facilities offshore and in shipyards. The proposed rule identified when credit cards or electronic checks for payment of fees would be acceptable.

Upon publication of the proposed rule, BSEE received several written requests from oil and gas companies and industry groups asking BSEE to extend the comment period on the proposed rule by an additional 30 days. BSEE has considered those requests and the reason provided and has determined that an additional 30 days is reasonable and appropriate. Accordingly, BSEE is extending its original 60-day comment period by an additional 30 days, from January 17, 2017, to February 16, 2017.

Dated: December 27, 2016.
Brian Salerno,
Director, Bureau of Safety and Environmental Enforcement.

[FR Doc. 2016-31999 Filed 1-4-17; 8:45 am]

BILLING CODE 4310-VH-P